DEPARTMENT OF COMMERCE

National Oceanic and Atmospheric Administration

[RTID 0648-XA885]

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit renewal application from the Atlantic Offshore Lobstermen's Association contains all of the required information and warrants further consideration. Regulations under the Magnuson-Stevens Fishery Conservation and Management Act and the Atlantic Coastal Fisheries Cooperative Management Act require publication of this notice to provide interested parties the opportunity to comment on applications for proposed Exempted Fishing Permits.

DATES: Comments must be received on or before April 1, 2021.

ADDRESSES: You may submit written comments by any of the following methods:

• Email: NMFS.GAR.EFP@noaa.gov. Include in the subject line “Comments on AOLA Larval Lobster EFP.” If you cannot submit a comment through this method, please contact Allison Murphy at (978) 281-9122, or email at allison.murphy@noaa.gov.

FOR FURTHER INFORMATION CONTACT: Allison Murphy, Fishery Policy Analyst, 978-281-9122, allison.murphy@noaa.gov.

SUPPLEMENTARY INFORMATION: The Atlantic Offshore Lobstermen's Association (AOLA) submitted a complete application requesting Exempted Fishing Permit (EFP) on February 12, 2021, to conduct fishing activities that the regulations would otherwise restrict. The EFP would authorize one vessel to conduct larval sampling in Lobster Conservation Management Area 3. A map of this area is available at: https://www.fisheries.noaa.gov/resource/map/lobster-management-areas.

The study would provide information on the spatial and temporal distribution and abundance of early and late stage American lobster larvae and their likely zooplankton prey to investigate factors affecting recruitment in the Gulf of Maine and Georges Bank stock area.

Funding for this research has been awarded under a National Sea Grant Lobster Initiative grant (NA20OAR4170505). For this project, AOLA is requesting exemptions from the following Federal lobster regulations:

1. Lobster gear prohibitions in 50 CFR 697.7(c)(1)(xxii) to allow for the use of multiple gear types capable of catching lobsters;

2. Lobster possession restrictions in § 697.17(a) to allow the harvest of lobster above the non-trap limit; and

3. Lobster possession restrictions in § 697.20(a) to allow for the collection of larval lobsters below the minimum size.

If the EFP is approved, this study would hire one federally-permitted lobster vessel to conduct a single day of lobster larval sampling on 14 multi-day (5-10 day) commercial fishing trips, spanning from the first week in June through the last week in September. When sampling, the vessel crew would conduct three replicate neuston tows for lobster larvae and record physical parameters. Samples from the nets will be preserved in ethanol, bottled, landed, and mailed to the principal investigator. Legal lobsters from the commercial portion of the trip will be landed and sold.

If approved, AOLA may request minor modifications and extensions to the EFP throughout the study period. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: March 12, 2021.
Jennifer M. Wallace,
Acting Director, Office of Sustainable Fisheries, National Marine Fisheries Service.

[FR Doc. 2021-05510 Filed 3-16-21; 8:45 am]

BILLING CODE 3510-22-P